DEPARTMENT OF THE INTERIOR

National Park Service

Notice of Intent To Prepare an Environmental Impact Statement, Arlington County and Vicinity Rowing Facility, George Washington Memorial Parkway

SUMMARY: In accordance with section 102(2)(c) of the National Environmental Policy Act of 1969, the National Park Service (NPS) is preparing an Environmental Impact Statement (EIS) to assess the impacts of building a boathouse with indoor storage space and floating docks at four possible locations within George Washington Memorial Parkway, two on the shore opposite Theodore Roosevelt Island, one south of the CSX/14th Street Bridges, and another on Daingerfield Island. For each location the EIS will consider the impact of two sizes of boathouse, approximately 10,000 square feet and 14,000 square feet. The proposed facility will house high school rowing programs, provide additional storage bays for the general public, as well as training facilities.

Public Involvement: Public involvement will be a key component in the preparation of the EIS. The NPS will be holding a public scoping meeting sometime during the months of May or June 2004 at a public site in Arlington County to provide the public an opportunity to present ideas, questions, and concerns directly to the planning team. The location and time will be advertised in the local newspapers and media.

The purpose of this meeting is to determine the concerns/issues that should be addressed in the EIS. Individuals unable to attend the scoping meetings may request information from the Superintendent, George Washington Memorial Parkway at the address listed below, or by checking our homepage on the Internet at the following address: http://www.nps.gov/gwmp/ or http://www.nps.gov/gwmp/pphtm1/documents.html.

Comments: If you wish to submit issues or provide input to this initial phase of developing the EIS, you may do so by any one of several methods. In addition to attending scoping meetings, you may mail comments to: Audrey F. Calhoun, Superintendent, George Washington Memorial Parkway, c/o Turkey Run, McLean, Virginia 22101. You may comment via the Internet to GWMP—Superintendent@nps.gov. Please submit Internet comments as an ASCII file avoiding the use of special characters and any form of encryption. Please also include “Attn: Arlington County and Vicinity Rowing Facility Planning Team” and your name and return address in your Internet message. If you do not receive a confirmation from the system that we have received your Internet message, please contact Park Planner Deborah Feldman at the George Washington Memorial Parkway at (703) 289-2512.

Scoping comments should be received no later than 60 days from the publication of this Notice of Intent. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Superintendent Audrey Calhoun, George Washington Memorial Parkway, c/o Turkey Run Headquarters, McLean, Virginia 22101.

Dated: March 22, 2004.
Terry R. Carlstrom,
Regional Director, National Capital Region, National Park Service.

[FR Doc. 04-11470 Filed 5-20-04; 8:45 am]

BILLING CODE 4312-52-M